DEPARTMENT OF THE INTERIOR

Bureau of Land Management

[LLNM930000.L14400000.BJ0000.BX0000]

Notice of Filing of Plats of Survey; New Mexico; Oklahoma

AGENCY: Bureau of Land Management, Interior.

ACTION: Notice of official filing.

SUMMARY: The plats of survey of the following described lands are scheduled to be officially filed 30 days after the date of this publication in the Bureau of Land Management, New Mexico State Office, Santa Fe, New Mexico. The surveys announced in this notice are necessary for the management of lands administered by the agency indicated.

ADDRESSES: These plats will be available for inspection in the New Mexico State Office, Bureau of Land Management, 301 Dinosaur Trail, Santa Fe, New Mexico 85004-4427. Protests of a survey should be sent to the New Mexico State Director at the above address.

FOR FURTHER INFORMATION CONTACT: Michael L. Hart, Acting Chief Cadastral Surveyor; (505) 761-8908; mlhart@blm.gov. Persons who use a telecommunications device for the deaf may call the Federal Relay Service (FRS) at 1-800-877-8339 to contact the above individual during normal business hours. The FRS is available 24 hours a day, 7 days a week, to leave a message or question with the above individual. You will receive a reply during normal business hours.

SUPPLEMENTARY INFORMATION:

New Mexico Principal Meridian, New Mexico

The plat representing the dependent resurvey of a tract of land in Township 25 South, Range 3 East, accepted March 11, 2024, for Group No. 1214, New Mexico.

This plat was prepared at the request of the Bureau of Land Management, Las Cruces District Office.

The plat representing the dependent resurvey and survey of a tract of land in Township 15 North, Range 12 East, accepted May 13, 2024, for Group No. 1219, New Mexico.

This plat was prepared at the request of the National Park Service.

Indian Meridian, Oklahoma

The plat representing the dependent resurvey and survey of a tract of land in Township 11 North, Range 8 West, accepted May 3, 2024, for Group No. 246, Oklahoma.

This plat was prepared at the request of the Bureau of Indian Affairs, Anadarko Agency, Oklahoma.

A person or party who wishes to protest against this survey must file a written notice of protest within 30 calendar days from the date of this publication with the New Mexico State Director, Bureau of Land Management, stating that they wish to protest.

A statement of reasons for a protest may be filed with the notice of protest to the State Director, or the statement of reasons must be filed with the State Director within 30 days after the protest is filed. Before including your address, or other personal information in your protest, please be aware that your entire protest, including your personal identifying information, may be made publicly available at any time. While you can ask us in your comment to withhold your personal identifying information from public review, we cannot guarantee that we will be able to do so.

Authority: 43 U.S.C. ch. 3.

Michael L. Hart,
Acting Chief Cadastral Surveyor of New Mexico and Oklahoma.

[FR Doc. 2024-10843 Filed 5-16-24; 8:45 am]

BILLING CODE 4331-23-P